DEPARTMENT OF LABOR

Employment and Training Administration

[TA-W-65,037]

Chrysler LLC, Warren Truck Assembly Plant, Including On-Site Leased Workers From Caravan Knight and Design Systems, Warren, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to apply for Worker Adjustment Assistance and Alternative Trade Adjustment Assistance on February 13, 2009, applicable to workers of Chrysler LLC, including on-site leased workers from Caravan Knight, at the Warren Truck Assembly Plant in Warren, Michigan. The notice was published in the Federal Register on March 3, 2009 (74 FR 9278).

At the request of the State agency, the Department reviewed the certification for workers of the subject firm. The workers assemble Dodge Dakota, Dodge Ram and Mitsubishi Raider pickups.

New information shows that workers leased from Design Systems were employed on-site at the Warren, Michigan, location of Chrysler LLC, Warren Truck Assembly Plant. The Department has determined that these workers were sufficiently under the control of the subject firm to be considered leased workers.

Based on these findings, the Department is amending this certification to include workers leased from Design Systems working on-site at the Warren, Michigan, location of Chrysler LLC, Warren Truck Assembly Plant.

The amended notice applicable to TA-W-65,037 is hereby issued as follows:

All workers of Chrysler LLC, Warren Truck Assembly Plant, including on-site leased workers from Caravan Knight and Design Systems, Warren, Michigan, who become totally or partially separated from employment on or after January 21, 2008 through February 13, 2011 are eligible to apply for adjustment assistance under Section 223 of the Trade Act of 1974, and are also eligible to apply for alternative trade adjustment assistance under Section 246 of the Trade Act of 1974.

Signed in Washington, DC, this 19th day of November 2009.
Richard Church,
Certifying Officer, Division of Trade Adjustment Assistance.

[FR Doc. E9-29145 Filed 12-7-09; 8:45 am]

BILLING CODE 4510-FN-P